ENVIRONMENTAL PROTECTION AGENCY

40 CFR Part 278

[EPA-HQ-RCRA-2006-0097; FRL-8171-9]

RIN 2050-AG27

Criteria for the Safe and Environmentally Protective Use of Granular Mine Tailings Known as “Chat”; Reopening the Comment Period

AGENCY: Environmental Protection Agency.

ACTION: Proposed rule; reopening of comment period.

SUMMARY: The Environmental Protection Agency (EPA) is reopening the comment period for the proposed rule entitled “Criteria for the Safe and Environmentally Protective Use of Granular Mine Tailings Known as ‘Chat'.” This proposal was published on April 4, 2006 (71 FR 16729), and the comment period ended on May 4, 2006. However, because a commenter has requested additional time to respond to the issues raised in the proposal, we are reopening the comment period to allow for an additional 30 day comment period.

DATES: Comments may now be submitted until June 19, 2006.

ADDRESSES: Submit your comments, identified by Docket ID No. EPA-HQ-RCRA-2006-0097, by one of the following methods:

• Federal eRulemaking Portal: http://www.regulations.gov. Follow the on-line instructions for submitting comments.

• E-mail: rcra-docket@epa.gov.

• Fax: 202-566-0272.

• Mail: send comments to RCRA Docket, (5305T), Attention Docket ID No. EPA-HQ-RCRA-2006-0097, 1200 Pennsylvania Avenue, NW., Washington, DC 20460. Please include two copies. We request that you also send a separate copy of the comment to the contact person listed below (see FOR FURTHER INFORMATION CONTACT).

• Hand Delivery: In person or by courier, deliver comments to: RCRA Docket, Attention Docket ID No. EPA-HQ-RCRA-2006-0097, 1301 Constitution Avenue, NW., Room B-108, Washington, DC 20004. Such deliveries are only accepted during the Docket's normal hours of operation, and special arrangements should be made for deliveries of boxed information. Please include two copies. We request that you also send a separate copy of the comment to the contact person listed below (see FOR FURTHER INFORMATION CONTACT).

Instructions: Direct your comments to Docket ID No. EPA-HQ-RCRA-2006-0097. EPA's policy is that all comments received will be included in the public docket without change and may be made available online at http://www.regulations.gov, including any personal information provided, unless the comment includes information claimed to be Confidential Business Information (CBI) or other information the disclosure of which is restricted by statute. Do not submit information that you consider to be CBI or otherwise protected through http://www.regulations.gov or e-mail. Send or deliver information identified as CBI to only the following address: Ms. LaShan Haynes, RCRA Document Control Officer, EPA (Mail Code 5305W), Attention Docket ID No. EPA-HQ-RCRA-2006-0097, 1200 Pennsylvania Avenue, Washington, DC 20460. Clearly mark the part or all of the information that you claim to be CBI. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm. We also request that interested parties who would like information they previously submitted to EPA to be considered as part of this reconsideration action identify the relevant information by docket entry numbers and page numbers.

FOR FURTHER INFORMATION CONTACT: Stephen Hoffman, Office of Solid Waste (5306W), U.S. Environmental Protection Agency, Ariel Rios Building, 1200 Pennsylvania Avenue, NW., Washington, DC 20460-0002, telephone (703) 308-8413, e-mail address hoffman.stephen@epa.gov. For more information on this rulemaking, please visit www.epa.gov/epaoswer/other/mining/chat/.

SUPPLEMENTARY INFORMATION: The proposed rule that is the subject of this notice, and which was published in the Federal Register on April 4, 2006 (71 FR 16729), proposes mandatory criteria for the environmentally protective use of chat for transportation construction projects carried out in whole or in part with Federal funds, and a certification requirement. Chat used in transportation projects must be encapsulated in hot mix asphalt concrete or Portland cement concrete unless the use of chat is otherwise authorized by a State or Federal response action undertaken pursuant to applicable Federal or State environmental laws. In the proposal we are also recommending criteria as guidance on the environmentally protective use of chat in non-transportation cement and concrete projects.

The comment period for the proposed rule ended on May, 4, 2006. However, a public commenter (the U.S. Public Interest Research Group (U.S. PIRG)) has requested that EPA extend the comment period by 60 days, noting that the additional time is needed to evaluate and comment intelligently on this important issue. This commenter also noted that they need additional time to consult with experts who understand not only the chemistry of encapsulating mine tailing, but also the different risks if the final rule allows use of the chat in non-highway activities. In addition, the commenter noted that the additional time is needed to coordinate so that, as much as possible, their comments reflect the expertise and views of a broad segment of their members.

EPA believes the request for additional time is reasonable, however, we believe 30 additional days is adequate. The Agency believes an additional 30 days is adequate because this proposal is very narrow in scope and the technical background documents supporting this rule are not extensive. In addition, it should be noted that since the comment period closed on May 4th and the Agency is reopening the comment period, commenters, in fact, will have more than 30 days from the date that the comment period closed. Therefore, we are extending the comment period for this proposal until June 19, 2006.

List of Subjects in 40 CFR Part 278

Environmental protection, Chat, Indians-lands, Mine tailings, Reporting and recordkeeping requirements, Waste.

Dated: May 12, 2006.
Matthew Hale,
Director, Office of Solid Waste.

[FR Doc. E6-7653 Filed 5-18-06; 8:45 am]

BILLING CODE 6560-50-P